DEPARTMENT OF TRANSPORTATION

Federal Aviation Administration

14 CFR Parts 91, 121, 135, and 145

[Docket No. FAA-1999-5836]

RIN 2120-AC38

Repair Stations; Correction

AGENCY: Federal Aviation Administration (FAA), DOT.

ACTION: Final rule; delay of effective date; correction.

SUMMARY: This document makes a correction to the DATES section of a final rule published in the Federal Register on March 14, 2003 (68 FR 12542). That final rule delayed the effective date of a final rule amending the regulations for aeronautical repair stations.

FOR FURTHER INFORMATION CONTACT: Diana Frohn, telephone (202) 267-7027.

Correction

In FR Doc. 03-6181 published on March 14, 2003, on page 12542, in the first column, correct the DATES paragraph to read as follows:

DATES: The effective date of the final rule amending 14 CFR parts 91, 121, 135 and 145 published on August 6, 2001, at 66 FR 41088 is delayed until October 3, 2003, with the following exception: § 145.163 remains effective April 6, 2005.

Donald P. Byrne,
Assistant Chief Counsel for Regulations.

[FR Doc. 03-8691 Filed 4-9-03; 8:45 am]

BILLING CODE 4910-13-M